DEPARTMENT OF THE TREASURY

United States Mint

Pricing for the 2022 Negro Leagues Baseball and Purple Heart Hall of Honor Commemorative Coin Programs

AGENCY: United States Mint, Department of the Treasury.

ACTION: Notice.

SUMMARY: The United States Mint is announcing pricing for the 2022 Negro Leagues Baseball and Purple Heart Hall of Honor Commemorative Coin Programs as shown below in SUPPLEMENTARY INFORMATION.

FOR FURTHER INFORMATION CONTACT: Ann Bailey; Sr. Program Manager for Sales and Marketing; United States Mint; 801 9th Street NW, Washington, DC 20220; or call 202-354-7500.

SUPPLEMENTARY INFORMATION:

Coin | Introductory price | Regular price
Silver Proof (both programs) | $74.00 | $79.00
Silver Uncirculated (both programs) | 69.00 | 74.00
Clad Proof (both programs) | 35.00 | 40.00
Clad Uncirculated (both programs) | 33.00 | 38.00
Negro Leagues Baseball Silver Dollar with Privy Mark | N/A | 85.00
Negro Leagues Baseball Silver Dollar with Jackie Robinson Silver Medal | N/A | 135.00
Purple Heart Hall of Honor Colorized Silver Dollar | N/A | 95.00

Products containing gold coins will be priced according to the Pricing of Numismatic and Commemorative Gold and Platinum Products Grid posted at www.usmint.gov.

Authority: Public Laws 116-209 & 116-247.

Eric Anderson,
Executive Secretary, United States Mint.

[FR Doc. 2022-00048 Filed 1-5-22; 8:45 am]

BILLING CODE P